DEPARTMENT OF ENERGY

Federal Energy Regulatory Commission

Combined Notice of Filings #1

Take notice that the Commission received the following electric corporate filings:

Docket Numbers: EC11-60-004.

Applicants: Progress Energy, Inc., Duke Energy Corporation.

Description: Duke Energy Corporation's response to March 4, 2014 letter requesting additional information.

Filed Date: 3/28/14.

Accession Number: 20140328-5282.

Comments Due: 5 p.m. ET 4/18/14.

Take notice that the Commission received the following electric rate filings:

Docket Numbers: ER10-2124-005.

Applicants: Spring Canyon Energy LLC.

Description: Supplement to December 24, 2013 Triennial Report of Spring Canyon Energy LLC.

Filed Date: 3/24/14.

Accession Number: 20140324-5143.

Comments Due: 5 p.m. ET 4/14/14.

Docket Numbers: ER10-2764-005.

Applicants: Vantage Wind Energy LLC.

Description: Supplement to December 30, 2013 Triennial Report for Northwest Region and Notice of Change in Facts of Vantage Wind Energy LLC.

Filed Date: 3/24/14.

Accession Number: 20140324-5141.

Comments Due: 5 p.m. ET 4/14/14.

Docket Numbers: ER10-3193-003; ER11-2042-004; ER11-2041-004; ER10-2964-004; ER10-2924-003; ER10-2480-002; ER10-2959-004; ER10-2961-003; ER10-2934-003; ER12-281-005; ER10-3099-008; ER10-2950-003; ER13-821-004; ER10-2615-003; ER11-2335-004; ER10-2538-002; ER14-1317-002.

Applicants: Brooklyn Navy Yard Cogeneration Partners, Seneca Energy II, LLC, Innovative Energy Systems, LLC, Selkirk Cogen Partners, L.P., Kleen Energy Systems, LLC, Berkshire Power Company, LLC, Chambers Cogeneration, Limited Partnership; Edgecombe Genco, LLC, Logan Generating Company, L.P., Northampton Generating Company, L.P., RC Cape May Holdings, LLC, Scrubgrass Generating Company, L.P., Spruance Genco, LLC, Plum Point Energy Associates, LLC, Plum Point Services Company, LLC, Panoche Energy Center, LLC, Sunshine Gas Producers, LLC.

Description: Notice of Non-Material Change in Status of EIF Management, LLC and the Notice Parties under ER10-3193, et. al.

Filed Date: 3/31/14.

Accession Number: 20140331-5276.

Comments Due: 5 p.m. ET 4/21/14.

Docket Numbers: ER13-342-003.

Applicants: CPV Shore, LLC.

Description: Supplement to January 23, 2014 Notice of Non-Material Change in Status of CPV Shore, LLC.

Filed Date: 3/12/14.

Accession Number: 20140312-5325.

Comments Due: 5 p.m. ET 4/2/14.

Docket Numbers: ER13-1758-000.

Applicants: San Joaquin Cogen, LLC.

Description: Second Supplement to June 24, 2013 San Joaquin Cogen, LLC Triennial & Tariff Revision filing.

Filed Date: 3/28/14.

Accession Number: 20140328-5323.

Comments Due: 5 p.m. ET 4/18/14.

Docket Numbers: ER14-693-003.

Applicants: Entergy Services, Inc.

Description: EES LBA Agreement Refile—EM BR 3-31-2014 to be effective 12/31/9998.

Filed Date: 3/31/14.

Accession Number: 20140331-5018.

Comments Due: 5 p.m. ET 5/2/14.

Docket Numbers: ER14-694-003.

Applicants: Entergy Services, Inc.

Description: EES LBA Agreement Refile—EM Beau 3-31-2014 to be effective 12/31/9998.

Filed Date: 3/31/14.

Accession Number: 20140331-5017.

Comments Due: 5 p.m. ET 5/2/14.

Docket Numbers: ER14-695-003.

Applicants: Entergy Services, Inc.

Description: EES LBA Agreement Refile—Axiall 3-31-2014 to be effective 12/31/9998.

Filed Date: 3/31/14.

Accession Number: 20140331-5014.

Comments Due: 5 p.m. ET 5/2/14.

Docket Numbers: ER14-696-003.

Applicants: Entergy Services, Inc.

Description: EES LBA Agreement Refile—Dow Plaq 3-31-2014 to be effective 12/31/9998.

Filed Date: 3/31/14.

Accession Number: 20140331-5015.

Comments Due: 5 p.m. ET 5/2/14

Docket Numbers: ER14-697-003.

Applicants: Entergy Services, Inc.

Description: EES LBA Agreement Refile—Dow UC 3-31-2014 to be effective 12/31/2014.

Filed Date: 3/31/14.

Accession Number: 20140331-5016.

Comments Due: 5 p.m. ET 5/2/14.

Docket Numbers: ER14-699-003.

Applicants: Entergy Services, Inc.

Description: EES LBA Agreement Refile—ETEC 3-31-2014 to be effective 12/31/9998.

Filed Date: 3/31/14.

Accession Number: 20140331-5020.

Comments Due: 5 p.m. ET 5/2/14.

Docket Numbers: ER14-701-003.

Applicants: Entergy Services, Inc.

Description: EES LBA Agreement Refile—SRW Cogen 3-31-2014 to be effective 12/31/9998.

Filed Date: 3/31/14.

Accession Number: 20140331-5021.

Comments Due: 5 p.m. ET 5/2/14.

Docket Numbers: ER14-703-003.

Applicants: Entergy Services, Inc.

Description: EES LBA Agreement Refile—Tenaska 3-31-2014 to be effective 12/31/9998.

Filed Date: 3/31/14.

Accession Number: 20140331-5022.

Comments Due: 5 p.m. ET 5/2/14.

Docket Numbers: ER14-704-003.

Applicants: Entergy Services, Inc.

Description: EES LBA Agreement Refile—Sabine Cogen 3-31-2014 to be effective 12/31/9998.

Filed Date: 3/31/14.

Accession Number: 20140331-5019.

Comments Due: 5 p.m. ET 5/2/14.

Docket Numbers: ER14-964-001; ER14-964-000.

Applicants: Pleasant Valley Wind, LLC.

Description: Amendment to January 8, 2013 and January 10, 2013 Pleasant Valley Wind, LLC tariff filing.

Filed Date: 3/26/14.

Accession Number: 20140326-5175.

Comments Due: 5 p.m. ET 4/7/14.

Docket Numbers: ER14-965-000; ER14-965-001.

Applicants: Border Winds Energy, LLC.

Description: Amendment to January 8, 2013 and January 10, 2013 Border Winds Energy, LLC tariff filing.

Filed Date: 3/26/14.

Accession Number: 20140326-5176.

Comments Due: 5 p.m. ET 4/7/14.

Docket Numbers: ER14-1317-001.

Applicants: Sunshine Gas Producers, LLC.

Description: Amendment to Application for Market-Based Rate Authority to be effective 4/1/2014.

Filed Date: 3/28/14.

Accession Number: 20140328-5138.

Comments Due: 5 p.m. ET 4/18/14.

Docket Numbers: ER14-1472-001.

Applicants: Public Service Company of Colorado.

Description: 2014-3-31_PSC-WAPA-T-Poncha-PA-358-0.0.1 to be effective 2/24/2014.

Filed Date: 3/31/14.

Accession Number: 20140331-5096.

Comments Due: 5 p.m. ET 4/21/14.

Docket Numbers: ER14-1582-000.

Applicants: Midcontinent Independent System Operator, Inc.

Description: 2014-03-28_ATC D-T Update Batch 1 Supplement to be effective N/A.

Filed Date: 3/28/14.

Accession Number: 20140328-5169.

Comments Due: 5 p.m. ET 4/18/14.

Docket Numbers: ER14-1609-000.

Applicants: PJM Interconnection, L.L.C.

Description: Revisions to PJM OATT Att DD re Transition Mechanism re Gen. Seasonal Testing to be effective 6/1/ 2014.

Filed Date: 3/28/14.

Accession Number: 20140328-5245.

Comments Due: 5 p.m. ET 4/18/14.

Docket Numbers: ER14-1611-000.

Applicants: Duke Energy Florida, Inc.

Description: Rate Schedule No. 150 NOS Filing to be effective 6/1/2014.

Filed Date: 3/31/14.

Accession Number: 20140331-5139.

Comments Due: 5 p.m. ET 4/21/14.

Docket Numbers: ER14-1612-000.

Applicants: Las Vegas Power Company, LLC.

Description: Notice of Cancellation to be effective 3/27/2014.

Filed Date: 3/31/14.

Accession Number: 20140331-5149.

Comments Due: 5 p.m. ET 4/21/14.

Docket Numbers: ER14-1613-000.

Applicants: Southwest Power Pool, Inc.

Description: 2198R16 Kansas Power Pool NITSA NOA to be effective 3/1/2014.

Filed Date: 3/31/14.

Accession Number: 20140331-5152.

Comments Due: 5 p.m. ET 4/21/14.

Docket Numbers: ER14-1614-000.

Applicants: NorthWestern Corporation.

Description: SA 713-S and N Concrete Construction Agreement to be effective 4/1/2014.

Filed Date: 3/31/14.

Accession Number: 20140331-5156.

Comments Due: 5 p.m. ET 4/21/14.

Docket Numbers: ER14-1615-000.

Applicants: Duke Energy Indiana, Inc.

Description: 2014 Annual Reconciliation Filing RS 253 to be effective 7/1/2013.

Filed Date: 3/31/14.

Accession Number: 20140331-5167.

Comments Due: 5 p.m. ET 4/21/14.

Docket Numbers: ER14-1616-000.

Applicants: NorthWestern Corporation.

Description: SA 711 712—Unexecuted Transmission Service Agreements with Gaelectric to be effective 5/31/2014.

Filed Date: 3/31/14.

Accession Number: 20140331-5192.

Comments Due: 5 p.m. ET 4/21/14

Docket Numbers: ER14-1617-000.

Applicants: Rock River I, LLC.

Description: 3rd Revised MBR to be effective 4/1/2014.

Filed Date: 3/31/14.

Accession Number: 20140331-5226.

Comments Due: 5 p.m. ET 4/21/14.

Docket Numbers: ER14-1619-000.

Applicants: Cottonwood Energy Company LP.

Description: Proposed Rate Schedule FERC No. 1 to be effective 6/1/2014.

Filed Date: 3/31/14.

Accession Number: 20140331-5270.

Comments Due: 5 p.m. ET 4/21/14.

Docket Numbers: ER14-1620-000.

Applicants: AEP Generation Resources Inc.

Description: Ohio Power Supply Agreement Amendment No. 2 to be effective 1/1/2014.

Filed Date: 3/31/14.

Accession Number: 20140331-5271.

Comments Due: 5 p.m. ET 4/21/14.

Take notice that the Commission received the following electric securities filings:

Docket Numbers: ES14-31-000.

Applicants: ISO New England Inc.

Description: Application of ISO New England Inc. under Section 204 of the Federal Power Act for An Order Authorizing Future Drawdowns Under Existing Authorized Securities.

Filed Date: 3/31/14.

Accession Number: 20140331-5229.

Comments Due: 5 p.m. ET 4/21/14.

Take notice that the Commission received the following open access transmission tariff filings:

Docket Numbers: OA14-2-000.

Applicants: New York Independent System Operator, Inc.

Description: Annual Compliance Report Regarding Unreserved Use and Late Study Penalties of the New York Independent System Operator, Inc.

Filed Date: 3/31/14.

Accession Number: 20140331-5221.

Comments Due: 5 p.m. ET 4/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2014.
Nathaniel J. Davis, Sr.,
Deputy Secretary.

[FR Doc. 2014-07789 Filed 4-7-14; 8:45 am]

BILLING CODE 6717-01-P